DEPARTMENT OF THE INTERIOR

Bureau of Indian Affairs

Renewal of Agency Information Collection for Probate of Indian Estates

AGENCIES: Bureau of Indian Affairs, Interior.

ACTION: Notice of submission to OMB.

SUMMARY: In compliance with the Paperwork Reduction Act of 1995, the Bureau of Indian Affairs is submitting to the Office of Management and Budget (OMB) a request for renewal for the collection of information titled “Probate of Indian Estates, Except for Members of the Osage Nation and the Five Civilized Tribes.” The information collection is currently authorized by OMB Control Number 1076-0169, which expires November 30, 2011.

DATES: Interested persons are invited to submit comments on or before December 29, 2011.

ADDRESSES: You may submit comments on the information collection to the Desk Officer for the Department of the Interior at the Office of Management and Budget, by facsimile to (202) 395-5806 or you may send an email to: OIRA_DOCKET@omb.eop.gov. Please send a copy of your comments to Charlene Toledo, Bureau of Indian Affairs, Director, Special Projects, BIA Division of Probate Services, 2600 N Central Ave STE MS102, Phoenix, AZ 85004; email: Charlene.Toldeo@bia.gov.

FOR FURTHER INFORMATION CONTACT: Charlene Toledo, Bureau of Indian Affairs, Director, Special Projects, at (505) 563-3371. You may review the ICR online at http://www.reginfo.gov. Follow the instructions to review Department of the Interior collections under review by OMB.

SUPPLEMENTARY INFORMATION:

I. Abstract

The Secretary of the Interior probates the estates of individual Indians owning trust or restricted property in accordance with 25 U.S.C. 372, 373. In order to compile the probate file, the Bureau of Indian Affairs (BIA) must obtain information regarding the deceased from individuals and the tribe. This renewal does not make any adjustments to the estimated burden hours or otherwise change the approved information collection.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires November 30, 2011. Response to the information collection is required to obtain a benefit.

It is our policy to make all comments available to the public for review at the location listed in the ADDRESSES section during the hours of 9 a.m.-5 p.m., Eastern Time, Monday through Friday except for legal holidays. Before including your address, phone number, email address or other personally identifiable information, be advised that your entire comment—including your personally identifiable information—may be made public at any time. While you may request that we withhold your personally identifiable information, we cannot guarantee that we will be able to do so.

III. Data

OMB Control Number: 1076-0169.

Title: Probate of Indian Estates, Except for Members of the Osage Nation and the Five Civilized Tribes, 25 CFR part 15.

Brief Description of Collection: This part contains the procedures that the Secretary of the Interior follows to initiate the probate of the trust estate for a deceased person who owns an interest in trust or restricted property. The Secretary must perform the information collection requests in this part to obtain the information necessary to compile an accurate and complete probate file. This file will be forwarded to the Office of Hearings and Appeals (OHA) for disposition. Responses to these information collection requests are required to create a probate file for the decedent'e estate so that OHA can determine the heirs of the decedent and order distribution of the trust assets in the decedent's estate.

Type of Review: Extension without change of a currently approved collection.

Respondents: Indians, businesses, and tribal authorities.

Number of Respondents: 64,915.

Frequency of Collection: One per respondent each year with the exception of tribes that may be required to provide enrollment information on an average of approximately 10 times/year.

Description of Respondents: Indians, businesses, and tribal authorities.

Estimated Hours per Response: Ranges from 0.5 hour to 45.5 hour (see table below).

Estimated Total Annual Responses: 76,685.

Estimated Total Annual Burden Hours: 1,037,493.

CFR Section | Description of info collection requirement | Number of responses per yr | Hours per response | Total burden hours
15.9 | File affidavit to self-prove will, codicil, or revocation | 1,000 | 0.5 | 500
15.9 | File supporting affidavit to self-prove will, codicil, or revocation | 2,000 | 0.5 | 1,000
15.104 | Reporting req.- death certificate | 5,850 | 5 | 29,250
15.105 | Provide probate documents | 21,235 | 45.5 | 966,193
15.203 | Provide tribal information for probate file | 5,650 | 2 | 11,300
15.301 | Reporting funeral expenses | 5,850 | 2 | 11,700
15.305 | Provide info on creditor claim (6 per probate) | 35,100 | 0.5 | 17,550
Total |  | 76,685 |  | 1,037,493

Dated: November 10, 2011.
Alvin Foster,
Assistant Director for Information Resources.

[FR Doc. 2011-30662 Filed 11-28-11; 8:45 a.m.]

BILLING CODE 4310-4J-P